DEPARTMENT OF COMMERCE

Census Bureau

Quarterly Financial Report

ACTION: Proposed information collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before May 7, 2007.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument(s) and instructions should be directed to Yolando M. St. George, U.S. Census Bureau, HQ-6K181, Washington, DC 20233, Telephone (301) 763-6600.

SUPPLEMENTARY INFORMATION:

I. Abstract

The Census Bureau is planning to resubmit to the Office of Management and Budget for approval, the Quarterly Financial Report (QFR) Program information collection forms. In an effort to reduce the reporting burden for the QFR, the Census Bureau has consolidated two of its forms into one and eliminated form QFR 103 (NB). The QFR forms submitted for approval are: QFR 200 (MT) which consolidates the QFR 101 (MG) and QFR 102 (TR) long forms; and QFR 201 (MG), which is the renumbered QFR 101A (MG) short form. The eliminated form, QFR 103 (NB), was a classification form used to determine the North American Industry Classification System (NAICS) industry of respondents. The QFR is now using other sources available to the Census Bureau for classification.

The QFR Program has published up-to-date aggregate statistics on the financial results and position of U.S. corporations since 1947. The QFR is a principal economic indicator that also provides financial data essential to the calculation of key Government measures of national economic performance. The importance of this data collection is reflected by the granting of specific authority to conduct the program in Title 13 of the United States Code, Section 91, which requires that financial statistics of business operations be collected and published quarterly. Public Law 109-79 extended the authority of the Secretary of Commerce to conduct the QFR Program under Section 91 through September 30, 2015.

The current scope of the QFR includes corporations in the Mining, Manufacturing, Wholesale Trade, and Retail Trade sectors. The main purpose of the QFR is to provide timely, accurate data on business financial conditions for use by Government and private-sector organizations and individuals. The primary public users are U.S. Governmental organizations with economic policymaking responsibilities. In turn, these organizations play a major role in providing guidance, advice, and support to the QFR Program. The primary private-sector data users are a diverse group including universities, financial analysts, unions, trade associations, public libraries, banking institutions, and U.S. and foreign corporations.

II. Method of Collection

The Census Bureau will primarily use mail out/mail back survey forms to collect the QFR data discussed in this notice. Companies will be asked to respond to the survey within 25 days of the end of the quarter for which the data are being requested. Letters and/or telephone calls encouraging participation will be directed to companies in the survey sample that have not responded by the designated time. During the third quarter of 2006, the QFR Program introduced an encrypted Internet Data Collection System (Census Taker) for optional use as a substitute for the paper form mailed to all companies. Census Taker is an electronic version of the data collection instrument. It provides improved quality with automatic data checks and is context-sensitive to assist the data provider in identifying potential reporting problems before submission, thus reducing the need for follow-up. Census Taker is completed via the Internet eliminating the need for downloading software and increasing the integrity and confidentiality of the data.

III. Data

OMB Number: 0607-0432.

Form Number: QFR 200 (MT), and QFR 201 (MG).

Type of Review: Regular review.

Affected Public: Manufacturing corporations with assets of $250 thousand or more and Mining, and Wholesale and Retail Trade corporations with assets of $50 million or more.

Estimated Number of Respondents:

Form QFR 200 (MT)—4,108 per quarter = 16,432 annually

Form QFR 201 (MG)—4,543 per quarter = 18,172 annually

Total—34,604 annually

Estimated Time per Response:

Form QFR 200 (MT)—Average hours 3.0

Form QFR 201 (MG)—Average hours 1.2

Estimated Total Annual Burden Hours: 71,000.

Estimated Total Annual Cost: $1.8 million.

Respondent's Obligation: Mandatory.

Legal Authority: Title 13 United States Code, Sections 91 and 224.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 1, 2007.
Gwellnar Banks,
Management Analyst, Office of the Chief Information Officer.

[FR Doc. E7-3879 Filed 3-5-07; 8:45 am]

BILLING CODE 3510-07-P